DEPARTMENT OF LABOR

Employee Benefits Security Administration

Notice of Proposed Amendment to PTE 81-6 and Proposed Restatement and Redesignation of PTE 82-63; Correction

AGENCY: Employee Benefits Security Administration, DOL.

ACTION: Correction.

SUMMARY: In notice document 03-26694 beginning on page 60715 in the issue of Thursday, October 23, 2003, make the following correction:

On page 60721, in the third column, in the next to the last paragraph, the last sentence should read this provision is expected to require 1,393 hours and $42,000 annually.

On page 60722, in the first column, the number for Total Responses was listed at 83,478. This number should be changed to 69,565.

On the same page, in the first column, the number for Estimated Total Burden Hours was listed at 16,735. This number should be changed to 16,273.

On the same page, in the first column, the number for Estimated Burden Cost was listed at $56,000. This number should be changed to $52,313.

Dated: October 23, 2003.
Ivan L. Strasfeld,
Director, Office of Exemption Determinations.

[FR Doc. 03-27110 Filed 10-27-03; 8:45 am]

BILLING CODE 4510-29-P